DEPARTMENT OF HEALTH AND HUMAN SERVICES

Centers for Disease Control and Prevention

[30-Day 15-0910]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Message Testing for Tobacco Communication Activities (OMB No. 0920-0910, exp. 1/31/2015)—Revision—National Center for Chronic Disease Prevention and Health Promotion (NCCDPHP), Centers for Disease Control and Prevention (CDC).

Background and Brief Description

In 2012, CDC's Office on Smoking and Health obtained OMB approval of a generic clearance to support the development and testing of tobacco-related health messages, including messages disseminated through multiple phases of an ACA-funded media campaign (Message Testing for Tobacco Communication Activities (MTTCA), OMB No. 0920-0910, exp. 1/31/2015). CDC has employed the MTTCA clearance to collect information about adult smokers' and nonsmokers' attitudes and perceptions, and to pre-test draft messages and materials for clarity, salience, appeal, and persuasiveness. Information collection modes that are supported include in-depth interviews, in-person focus groups, online focus groups, computer-assisted, in-person, or telephone interviews, and online surveys. Messages have been developed for multiple media channels including television, radio, print, and digital formats.

CDC requests OMB approval to extend the MTTCA clearance, with changes, for three years. The Revision information collection request will propose a 20% increase in the annualized estimated number of respondents (from 36,847 to 44,216) and a 52% increase in the annualized estimated burden hours (from 7,219 to 10,998). The increases will be used for short, medium and in-depth surveys which are in line with activities proposed in the initial generic clearance. These increases are needed to support CDC's planned information collections and to accommodate additional needs that CDC may identify during the next three years. For example, the MTTCA generic clearance may be used to facilitate the development of tobacco-related health communications of interest for CDC's collaborative efforts with other federal partners including, but not limited to, the Food and Drug Administration (FDA), the Substance Abuse and Mental Health Services Administration (SAMHSA), the National Institutes of Health (NIH), and the National Cancer Institute (NCI). At this time the revised MTTCA clearance is expected to be sufficient to test tobacco related messages developed by CDC for the general US population and subpopulations of interest. The MTTCA clearance should not replace the need for additional generic clearance mechanisms of HHS and other federal partners that may need to test tobacco messages related to their campaigns and initiatives.

CDC's revised MTTCA clearance also describes expansion of the target audience(s) that may be involved in message testing, such as youth ages 13-17 years. Media campaigns have been shown to be effective as part of a comprehensive tobacco control program to decrease the initiation of tobacco use among youths and young adults.

Finally, there may be a need to test prevention and cessation messages related to products that are not currently regulated, including non-combustible tobacco products (electronic nicotine delivery systems such as electronic cigarettes or e-cigarettes) and some combustible products (such as cigars/little cigars and cigarillos). In the event that the FDA receives authority to regulate these products and decides to do a campaign about them, CDC will continue to work closely with FDA to avoid duplication. Additionally, CDC will share with FDA the findings from any formative work related to the youth audience.

CDC will continue to use the MTTCA clearance to develop and test messages and materials. Participation is voluntary and there are no costs to respondents other than their time. The total estimated annualized burden hours are 10,998.

Estimated Annualized Burden Hours
Type of respondents | Form name | Number of respondents | Number of responses per respondent | Average burden per response (in hours)
General Public and Special Populations | Screening and Recruitment In-depth Interviews (In Person, telephone, etc.) | 20,000 96 | 1 1 | 2/60 1
| Focus Groups (In Person) | 160 | 1 | 90/60
| Focus Groups (Online) | 120 | 1 | 1
| Short Surveys/information needed to screen individuals being considered for inclusion in campaign ads (Online, Bulletin Board, etc.) | 9,800 | 1 | 10/60
| Medium Surveys (Online) | 9,940 | 1 | 25/60
| In-depth Surveys (Online) | 4,100 | 1 | 1

Leroy A. Richardson,
Chief, Information Collection Review Office, Office of Scientific Integrity, Office of the Associate Director for Science, Office of the Director, Centers for Disease Control and Prevention.

[FR Doc. 2014-29291 Filed 12-15-14; 8:45 am]

BILLING CODE 4163-18-P